ENVIRONMENTAL PROTECTION AGENCY

[Docket ID No. EPA-HQ-ORD-2016-0374; FRL-9948-71-ORD]

Evaluating Urban Resilience to Climate Change: A Multi-Sector Approach; Correction

AGENCY: Environmental Protection Agency (EPA).

ACTION: Notice; correction.

SUMMARY: The Environmental Protection Agency (EPA) published a document in the Federal Register of June 21, 2016, announcing a 30-day public comment period for the draft document titled “Evaluating Urban Resilience to Climate Change: A Multi-Sector Approach” (EPA/600/R-15/312). The document contained an incorrect docket number.

FOR FURTHER INFORMATION CONTACT: For technical information, contact Susan Julius, NCEA; telephone: 703-347-8619; facsimile: 703-347-8694; or email: julius.susan@epa.gov.

Correction

In the Federal Register of June 21, 2016, in FR Doc. 2016-14666, on page 40302, in the document heading and on page 40303, in the first column, in the first paragraph of section II. and in the same column, in the “Instructions:” paragraph, the docket number is corrected to read: EPA-HQ-ORD-2016-0374.

Dated: June 24, 2016.
Mary A. Ross,
Deputy Director, National Center for Environmental Assessment.

[FR Doc. 2016-15855 Filed 7-1-16; 8:45 am]

BILLING CODE 6560-50-P